DEPARTMENT OF ENERGY

Proposed Agency Information Collection

AGENCY: Office of Energy Efficiency and Renewable Energy, Department of Energy (DOE).

ACTION: Notice and request for OMB review and comment.

SUMMARY: The Department of Energy (DOE) has submitted to the Office of Management and Budget (OMB) for clearance, pursuant to the Paperwork Reduction Act of 1995, a three-year extension to its collection of information titled: Budget Justification, OMB No. 1910-5162. The proposed collection will establish application consistency for numerous Grant and Cooperative Agreement application packages from potential and chosen recipients. This effort will also streamline processes and provide applicants with a clear and straightforward tool to assist with project budgeting. In addition it will endow DOE reviewers with adequate information to determine if proposed costs are allowable, allocable, and reasonable.

DATES: Comments regarding this continued information collection must be received on or before December 10, 2021. If you anticipate that you will be submitting comments, but find it difficult to do so within the period of time allowed by this notice, please advise the DOE Desk Officer at OMB of your intention to make a submission as soon as possible. The Desk Officer may be telephoned at (202) 395-4650.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to James Cash, U.S. Department of Energy, Golden Field Office, 15013 Denver West Parkway, Golden, CO 80401-3111, or by phone (240) 562-1456, or by email at james.cash@ee.doe.gov. The information collection instrument, titled “Budget Justification” may also be viewed at: https://www.energy.gov/eere/funding/articles/eere-negotiation-forms.

SUPPLEMENTARY INFORMATION: This information collection request contains:

(1) OMB No. 1910-5162, Budget Justification;

(2) Information Collection Request Title: Budget Justification;

(3) Type of Request: Renewal;

(4) Purpose: This collection of information is necessary in order for DOE to identify allowable, allocable, and reasonable recipient project costs eligible for Grants and Cooperative Agreements under Energy Efficiency and Renewable Energy (EERE) programs;

(5) Annual Estimated Number of Respondents: 400;

(6) Annual Estimated Number of Total Responses: 400;

(7) Annual Estimated Number of Burden Hours: 24 hours, per response;

(8) Annual Estimated Reporting and Recordkeeping Cost Burden: $1,417.20 per one time response;

Statutory Authority: Section 989(a) EPACT 2005 [Merit Review]{42 U.S.C. 16353(a)}; Section 646 DOE Organization Act [Contracts]{42 U.S.C. 7256(a)}; and 31 U.S.C. 503 (the Chief Financial Officers Act, Functions of the Deputy Director for Management), 31 U.S.C. 1111 (Improving Economy and Efficiency of the United States Government), 41 U.S.C. 1101-1131 (the Office of Federal Procurement Policy Act), Reorganization Plan No. 2 of 1970, and Executive Order 11541 (“Prescribing the Duties of the Office of Management and Budget and the Domestic Policy Council in the Executive Office of the President”), the Single Audit Act Amendments of 1996, (31 U.S.C. 7501-7507), as well as The Federal Program Information Act (Pub. L. 95-220 and Pub. L. 98-169, as amended, codified at 31 U.S.C. 6101-6106).

Signing Authority

This document of the Department of Energy was signed on November 5, 2021, by Derek G. Passarelli, Head of Contracting Activity and Director, Golden Field Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 5, 2021.
Treena V. Garrett,
Federal Register Liaison Officer, U.S. Department of Energy.

[FR Doc. 2021-24608 Filed 11-9-21; 8:45 am]

BILLING CODE 6450-01-P